DEPARTMENT OF TRANSPORTATION

Federal Aviation Administration

14 CFR Part 39

[Docket No. 2000-NM-104-AD]

RIN 2120-AA64

Airworthiness Directives; Airbus Model A300, A300-600, and A310 Series Airplanes

AGENCY: Federal Aviation Administration, DOT.

ACTION: Notice of proposed rulemaking (NPRM).

SUMMARY: This document proposes the supersedure of an existing airworthiness directive (AD), applicable to certain Airbus Model A300 and all Model A300-600 and A310 series airplanes, that currently requires performing a pitch trim system test to detect any continuity defect in the autotrim function, and follow-on corrective actions, if necessary. This action would require repetitive inspections of the autotrim function to detect such defects, and corrective actions, if necessary. This action also would expand the applicability to include additional airplanes. This proposal is prompted by issuance of mandatory continuing airworthiness information by a foreign civil airworthiness authority. The actions specified by the proposed AD are intended to prevent a sudden change in pitch due to an out-of-trim condition combined with an autopilot disconnect, which could result in reduced controllability of the airplane.

DATES: Comments must be received by July 12, 2000.

ADDRESSES: Submit comments in triplicate to the Federal Aviation Administration (FAA), Transport Airplane Directorate, ANM-114, Attention: Rules Docket No. 2000-NM-104-AD, 1601 Lind Avenue, SW., Renton, Washington 98055-4056. Comments may be inspected at this location between 9:00 a.m. and 3:00 p.m., Monday through Friday, except Federal holidays.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-104-AD.” The postcard will be date stamped and returned to the commenter.

Availability of NPRMs

Any person may obtain a copy of this NPRM by submitting a request to the FAA, Transport Airplane Directorate, ANM-114, Attention: Rules Docket No. 2000-NM-104-AD, 1601 Lind Avenue, SW., Renton, Washington 98055-4056.

Discussion

On January 18, 2000, the FAA issued AD 2000-02-04, amendment 39-11522 (65 FR 3799, January 25, 2000), applicable to certain Airbus Model A300 and all Model A300-600 and A310 series airplanes. That AD requires performing a pitch trim system test to detect any continuity defect in the autotrim function, and follow-on corrective actions, if necessary. That action was prompted by issuance of mandatory continuing airworthiness information by a foreign civil airworthiness authority. The requirements of that AD are intended to prevent a sudden change in pitch due to an out-of-trim condition combined with an autopilot disconnect, which could result in reduced controllability of the airplane.

Actions Since Issuance of Previous Rule

Since issuance of AD 2000-02-04, the Direction Générale de l'Aviation Civile (DGAC), which is the airworthiness authority for France, has advised the FAA that repetitive inspections are necessary to maintain the fleet in an airworthy condition, and that additional airplanes may be subject to the identified unsafe condition. In light of the DGAC's recommendation, the FAA has determined that further rulemaking action is necessary; this proposed AD follows from that determination.

Explanation of Relevant Service Information

Airbus has issued Service Bulletins A300-22A6042, Revision 01 (for Model A300-600 series airplanes); A300-22A0115, Revision 02 (for Model A300 series airplanes); and A310-22A2053, Revision 01 (for Model A310 series airplanes); all dated March 7, 2000. These service bulletins describe procedures for repetitive inspections of the autotrim function by testing the integrity of the flight control computer (FCC) and flight augmentation computer (FAC) in logic activation of the autotrim. For any default found during the test, the service bulletins describe procedures for trouble-shooting and follow-on corrective actions, including replacing the FCC and/or FAC, retesting, checking the wires between certain FCC and FAC pins, and repairing damaged wires.

The DGAC classified these service bulletins as mandatory and issued French airworthiness directive 2000-115-304(B) R1, dated May 3, 2000, in order to ensure the continued airworthiness of these airplanes in France.

FAA's Conclusions

These airplane models are manufactured in France and are type certificated for operation in the United States under the provisions of § 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2000-02-04 to require repetitive inspections to detect continuity defects in the autotrim function and to expand the applicability to include additional airplanes. The actions would be required to be accomplished in accordance with the applicable service bulletin described previously. The proposed AD also would require that operators report results of inspection findings to Airbus.

Interim Action

This is considered to be interim action for Model A300-600 and A310 series airplanes. The manufacturer has advised that it currently is developing a modification that will positively address the unsafe condition addressed by this AD. Once this modification is developed, approved, and available, the FAA may consider additional rulemaking for these airplanes.

Cost Impact

There are approximately 120 airplanes of U.S. registry that would be affected by this proposed AD. The inspection that is proposed by this AD would take approximately 1 work hour per airplane to accomplish, at an average labor rate of $60 per work hour. Based on these figures, the cost impact of the proposed actions on U.S. operators is estimated to be $7,200, or $60 per airplane, per inspection cycle.

The cost impact figure discussed above is based on assumptions that no operator has yet accomplished any of the current or proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11522 (65 FR 3799, January 25, 2000), and by adding a new airworthiness directive (AD), to read as follows:

Airbus Industrie: Docket 2000-NM-104-AD. Supersedes AD 2000-02-04, Amendment 39-11522.

Applicability: Model A300 B2-203 and B4-203 series airplanes in a forward facing cockpit version, as listed in Airbus Service Bulletin A300-22A0115, Revision 02, dated March 7, 2000; and all Model A300-600 and A310 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent a sudden change in pitch due to an out-of-trim condition combined with an autopilot disconnect, which could result in reduced controllability of the airplane, accomplish the following:

Repetitive Inspections

(a) At the applicable time specified by paragraph (a)(1) or (a)(2) of this AD: Perform an inspection of the autotrim function by testing the flight control computer (FCC)/flight augmentation computer (FAC) integrity in logic activation of the autotrim, in accordance with Airbus Service Bulletin A300-22A6042, Revision 01 (for Model A300-600 series airplanes); A300-22A0115, Revision 02 (for Model A300 series airplanes); or A310-22A2053, Revision 01 (for Model A310 series airplanes); all dated March 7, 2000; as applicable. If any discrepancy is found, prior to further flight, perform all applicable corrective actions (including trouble-shooting, replacing the FCC and/or FAC, retesting, checking the wires between certain FCC and FAC pins, and repairing damaged wires) in accordance with the applicable service bulletin. Repeat the inspection thereafter at intervals not to exceed 500 flight hours.

(1) For airplanes on which the pitch trim system test has been performed in accordance with the requirements of AD 2000-02-04, amendment 39-11522: Inspect within 500 flight hours after accomplishment of the test required by that AD, or within 20 days after the effective date of this AD, whichever occurs later.

(2) For all other airplanes: Inspect within 20 days after the effective date of this AD.

Reporting Requirement

(b) For all inspections required by paragraph (a) of this AD: At the applicable time specified by paragraph (b)(1) or (b)(2) of this AD, submit a report of the inspection results (both positive and negative findings) to AI/SE-D32 Technical Data and Documentation Services, Airbus Industrie Customer Services Directorate, 1 Rond Point Maurice Bellonte, 31707 Blagnac Cedex France; fax (+33) 5 61 93 28 06.

(1) For inspections accomplished after the effective date of this AD: Submit the report within 10 days after performing the inspection.

(2) For inspections accomplished prior to the effective date of this AD: Submit the report within 10 days after the effective date of this AD.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with §§ 21.197 and 21.199 of the Federal Aviation Regulations (14 CFR 21.197 and 21.199) to operate the airplane to a location where the requirements of this AD can be accomplished.

Note 3: The subject of this AD is addressed in French airworthiness directive 2000-115-304(B) R1, dated May 3, 2000.

Issued in Renton, Washington, on June 6, 2000.
Donald L. Riggin,
Acting Manager, Transport Airplane Directorate, Aircraft Certification Service.

[FR Doc. 00-14794 Filed 6-9-00; 8:45 am]

BILLING CODE 4910-13-U